INTERNATIONAL TRADE COMMISSION

[Investigation No. 337-TA-690]

Certain Printing and Imaging Devices and Components Thereof; Notice of Commission Determination To Extend the Deadline for Filing Submissions on Remedy, the Public Interest and Bonding

AGENCY: U.S. International Trade Commission.

ACTION: Notice.

SUMMARY: Notice is hereby given that the U.S. International Trade Commission has determined to extend the deadline for filing submissions on remedy, the public interest, and bonding in the above-captioned investigation.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 26, 2009, based on a complaint filed by Ricoh Company, Ltd. of Tokyo, Japan; Ricoh Americas Corporation of West Caldwell, New Jersey; and Ricoh Electronics, Inc. of Tustin, California. 74 FR 55065 (Oct. 26, 2009). The complaint alleged, inter alia, violations of section 337 in the importation into the United States, the sale for importation, and the sale within the United States after importation of certain printing and imaging devices and components thereof by reason of infringement of U.S. Patent Nos. 6,209,048; 6,212,343; 6,388,771; 5,764,866; and 5,863,690 (“the `690 patent”). The complaint named Oki Data Corporation of Tokyo, Japan and Oki Data Americas, Inc. of Mount Laurel, New Jersey (collectively “Oki”) as respondents.

On September 23, 2010, the ALJ issued his final ID finding that Oki violated section 337 in the importation into the United States, the sale for importation, and the sale within the United States after importation of certain printing and imaging devices and components thereof by reason of infringement of several claims in the `690 patent. On November 22, 2010, the Commission determined to review the final ID in part. The Commission asked for initial submissions on the issues under review as well as on remedy, the public interest and bonding by December 9, 2010, and reply submissions by December 17, 2010.

The Commission has determined to extend the deadline for initial submissions on remedy, the public interest, and bonding to December 17, 2010, and extend the deadline for reply submissions on remedy, the public interest, and bonding to December 23, 2010. This extension applies to all parties and members of the public.

The authority for the Commission's determination is contained in section 337 of the Tariff Act of 1930, as amended (19 U.S.C. 1337), and in sections 210.42-46 and 210.50 of the Commission's Rules of Practice and Procedure (19 CFR 210.42-46 and 210.50).

By order of the Commission.
Issued: December 6, 2010.
William R. Bishop,
Acting Secretary to the Commission.

[FR Doc. 2010-31124 Filed 12-10-10; 8:45 am]

BILLING CODE P